FEDERAL COMMUNICATIONS COMMISSION

Notice of Public Information Collection(s) Being Submitted for Review to the Office of Management and Budget

February 12, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 19, 2007. If you anticipate that you will be submitting PRA comments, but find it difficult to do so within the period of time allowed by this notice, you should advise the FCC contact listed below as soon as possible.

ADDRESSES: Direct all PRA comments to Allison E. Zaleski, Office of Management and Budget, Room 10236 NEOB, Washington, DC 20503, (202) 395-6466, or via fax at (202) 395-5167 or via Internet at Allison_E._Zaleski@eop.omb.gov and to Leslie F. Smith@fcc.gov, Federal Communications Commission, Room 1-C216, 445 12th Street, SW., DC 20554, or an e-mail to PRA@fcc.gov. If you would like to obtain or view a copy of this information collection, you may do so by visiting the FCC PRA Web page at: http://www.fcc.gov/omd/pra.

FOR FURTHER INFORMATION CONTACT: For additional information or copies of the information collection(s), contact Leslie F. Smith at (202) 418-0217 or via the Internet at Leslie.Smith@fcc.gov.

SUPPLEMENTARY INFORMATION: OMB Control Number: 3060-0949.

Title: Interstate Telecommunications Service Provider Worksheet, FCC Form 159-W.

Form Number: FCC Form 159-W.

Type of Review: Extension of a currently approved collection.

Respondents: Business and other for-profit entities.

Number of Respondents: 3,400.

Estimated Time per Response: 0.5 hours (30 minutes).

Frequency of Response: On occasion and annual reporting requirements.

Obligation to Respond: Required to obtain or retain benefits.

Total Annual Burden: 1,700 hours.

Total Annual Costs: None.

Nature and Extent of Confidentiality: There is no need for confidentiality, except for personally identifiable information individuals may submit, which is covered by a system of records, FCC/OMD-9, “Commission Registration System (CORES).”

Privacy Impact Assessment: No impact(s).

Needs and Uses: Section 9 of the Communications Act of 1934, as amended, authorizes the FCC to assess and to collect regulatory fees to recover costs incurred in carrying out the Commission's enforcement actions, policies, rulemaking activities, and user information services. Telecommunications licensees and permittees that provide interstate, international, mobile, and satellite services, including telephone operator services, must pay those fees, which are based upon a percentage of the licensee/permittee's interstate revenues. The FCC bills telecommunications licensees and permittees using the FCC Form 159-W as the invoice. The FCC developed FCC Form 159-W to provide a convenient format for these telecommunications licensees and permittees to verify the information that is extracted from the interstate revenue information (which are already “populated” on this form) and to verify the simple calculation of the fee amount that is due, correcting any inaccuracies as necessary. The FCC uses this form to bill the telecommunications licensee or permittee the amount of its regulatory fee. The FCC is making minor revisions to FCC Form 159-W to provide a clearer format. Respondents may access FCC Form 159-W on line through the FCC's Web page: www.fcc.gov/frnreg if they wish to submit payment prior to being billed.

OMB Control Number: 3060-0917.

Title: CORES Registration Form, FCC Form 160.

Form Number: FCC Form 160.

Type of Review: Extension of a currently approved collection.

Respondents: Individuals or households; Businesses or other for-profit entities; Not-for-profit institutions; and State, Local, or Tribal Governments.

Number of Respondents: 103,448.

Estimated Time per Response: 10 minutes (0.167 hours).

Frequency of Response: One time reporting requirement.

Obligation to Respond: Required to obtain or retain benefits.

Total Annual Burden: 17,586 hours.

Total Annual Costs: None.

Nature and Extent of Confidentiality: There is no need for confidentiality, except for personally identifiable information individuals may submit, which is covered by a system of records, FCC/OMD-9, “Commission Registration System (CORES).”

Privacy Impact Assessment: No impact(s).

Needs and Uses: Respondents use FCC Form 160 to register with the Commission's CORES program. Respondents may register on line through www.fcc.gov/frnreg. By registering, the respondent applies for and receives an FCC Registration Number (FRN), which is required for anyone doing business with the Commission. The FCC Form 160 is used to collect information that pertains to the entity's name, address, contact representative, telephone number, e-mail address, and fax number. The Commission uses this information to collect and to report on any delinquent amounts arising from the respondent's business dealings with the FCC, including both “feeable” and “nonfeeable” services. The CORES Registration program also enables the Commission to ensure that registrants (respondents) receive any refunds due and to comply with the Debt Collection Improvement Act of 1996.

OMB Control Number: 3060-0918.

Title: CORES Update/Change Form, FCC Form 161.

Form Number: FCC Form 161.

Type of Review: Revision of a currently approved collection.

Respondents: Individuals or households; Businesses or other for-profit entities; Not-for-profit institutions; and State, Local, or Tribal Governments.

Number of Respondents: 52,628.

Estimated Time per Response: 10 minutes (0.167 hours).

Frequency of Response: On occasion and annual reporting requirements.

Obligation to Respond: Required to obtain or retain benefits.

Total Annual Burden: 8,947 hours.

Total Annual Costs: None.

Nature and Extent of Confidentiality: There is no need for confidentiality, except for personally identifiable information individuals may submit, which is covered by a system of records, FCC/OMD-9, “Commission Registration System (CORES).”

Privacy Impact Assessment: No impact(s).

Needs and Uses: Once respondents have registered with the CORES (Commission Registration System) database and been issued an FCC Registration Number (FRN), the unique identifier for doing business with the Commission, respondents may use FCC Form 161 to update and/or change their name, address, telephone number, e-mail address, fax number, contact representative, contact representative's address, telephone number, e-mail address, and/or fax number, which they have entered previously in the CORES database. FCC Form 161 may be accessed through the FCC Web page: http://www.fcc.gov/frnreg. The FCC uses CORES to ensure that respondents receive any refunds due and to comply with the Debt Collection Act of 1996. The FCC has added a “personal security question,” “custom personal security question,” and a “certification statement” and “signature line” to FCC Form 161. Upon approval of this collection, the FCC will cancel information collection 3060-0919, FCC Form 162, “CORES Certification Form.”

Federal Communications Commission.
Marlene H. Dortch,
Secretary.

[FR Doc. E7-2773 Filed 2-15-07; 8:45 am]

BILLING CODE 6712-01-P